DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Advance Monthly Retail Trade Survey.

Form Number(s): SM-44(06)A, SM-44(06)AE, SM-44(06)AS, SM-72(06)A, SM-44(00)FA, SM-44(00)FAE, SM-44(00)FAS, SM-72(00)FA.

Agency Approval Number: 0607-0104.

Type of Request: Extension of a currently approved collection.

Burden: 4,500 hours.

Number of Respondents: 4,500.

Avg Hours per Response: 5 minutes.

Needs and Uses: The Advance Monthly Retail Trade Survey was developed in response to requests by government, business, and other users to provide an early indication of current retail trade activity at the United States level. MARTS also provides monthly sales of food service establishments and drinking places. Policymakers, such as the Federal Reserve Board, need to have the most timely estimates in order to anticipate economic trends and act accordingly. Data on sales from this survey provide the earliest possible look at consumer spending and are necessary for the calculation of the personal consumption portion of the Gross Domestic Product (GDP). Without the Advance Monthly Retail Trade Survey, the Census Bureau's earliest measure of retail sales is the “preliminary” estimate from the full monthly sample, released about 40 days after the reference period.

The Census Bureau tabulates the collected data to provide, with measured reliability, statistics on United States retail sales. These sales estimates, developed from the Advance Monthly Retail Trade Survey, are used by the Council of Economic Advisers, Bureau of Economic Analysis (BEA), Federal Reserve Board, and other government agencies, as well as business users in formulating economic decisions. These estimates have a high priority because of their timeliness. There would be approximately a one month delay in the availability of these data if this survey were not conducted.

Affected Public: Business or other for-profit.

Frequency: Monthly.

Respondent's Obligation: Voluntary.

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 25, 2006.
Madeleine Clayton,
Management Analyst, Office of the Chief Information Officer.

[FR Doc. E6-12213 Filed 7-28-06; 8:45 am]

BILLING CODE 3510-07-P